DEPARTMENT OF HEALTH AND HUMAN SERVICES

Administration for Children and Families

Office of Planning, Research and Evaluation; Grant to Institute for American Values

AGENCY: Office of Planning, Research and Evaluation, ACF, HHS.

ACTION: Award announcement.

SUMMARY: Notice is hereby given that the Office of Planning, Research and Evaluation will award grant funds without competition to the Institute for American Values. This grant is being awarded for an unsolicited proposal that conforms to the applicable program objectives, is within the legislative authorities and proposes activities that may be lawfully supported through grant mechanisms. This application is of outstanding merit and will have significant impact in focusing new public policy initiatives related to healthy marriage and contribute to better scholarly and public understanding of the issues, particularly related to the benefits of marriage for African Americans. The systematic review of academic findings published since 1990 will include studies with substantial rigor in order to address the existing inconclusive and often contradictory evidence presented in the current social science literature regarding the benefits of marriage for African Americans. The proposal presents a unique approach and includes a research team comprised of nationally recognized experts who will draw on the experience and knowledge of other nationally recognized experts in identifying the universe of scholarly publications to be considered and providing recommendations regarding variables to be considered and approaches for analysis.

The Institute for American Values is a nonpartisan organization devoted to contributing intellectually to the renewal of marriage and family life and the sources of competence, character, and citizenship.

The grant will support a 16-month project at a cost of $48,852 in federal support. The project is also being supported through non-federal funding sources.

FOR FURTHER INFORMATION CONTACT: K.A. Jagannathan, Administration for Children and Families, Office of Planning, Research and Evaluation, 370 L'Enfant Promenade, SW., Washington, DC 20447, Phone: 202-205-4829.

Dated: May 13, 2004.
Naomi Goldstein,
Acting Director, Office of Planning, Research and Evaluation.

[FR Doc. 04-11239 Filed 5-18-04; 8:45 am]

BILLING CODE 4184-01-P